FEDERAL MARITIME COMMISSION

Ocean Transportation Intermediary License Rescission of Order of Revocation

The Commission gives notice that the Order revoking the following Ocean Transportation Intermediary license has been rescinded pursuant to section 19 of the Shipping Act of 1984 (46 U.S.C. 40101).

License Number: 022306N.

Name: Worldunimax Logistics, Inc.

Address: 250 West Walnut Street, Compton, CA 90220.

Order Published: August 15, 2014 (79 FR 48158 DOC No. 2014-19349).

Sandra L. Kusumoto,
Director, Bureau of Certification and Licensing.

[FR Doc. 2014-20568 Filed 8-28-14; 8:45 am]

BILLING CODE 6730-01-P